DEPARTMENT OF COMMERCE

National Oceanic and Atmospheric Administration

50 CFR Part 229

[Docket No. 010510119-1119-01; I.D. 050901B]

RIN 0648-AP27

Taking of Marine Mammals Incidental to Commercial Fishing Operations; Atlantic Large Whale Take Reduction Plan

AGENCY: National Marine Fisheries Service (NMFS), National Oceanic and Atmospheric Administration (NOAA), Commerce.

ACTION: Temporary area and gear restrictions.

SUMMARY: The Assistant Administrator for Fisheries (AA), NOAA, announces temporary restrictions consistent with the requirements of the Atlantic Large Whale Take Reduction Plan’s (ALWTRP) implementing regulations. The AA implements gear restrictions for an area totaling 460 square nautical miles (sq. nm)for 15 days to provide immediate protection to an aggregation of northern right whales. The AA also requests that fishermen adhere to voluntary measures for a 600 sq. nm precautionary area, which surrounds the restricted area.

DATES: The areas and gear restrictions are effective beginning May 13, 2001, through May 30, 2001.

ADDRESSES: Send comments on this document to Gregg LaMontagne, NMFS/Northeast Region, One Blackburn Drive, Gloucester, MA 01930. Copies of the Environmental Assessment (EA), Atlantic Large Whale Take Reduction Team (ALWTRT) meeting summaries, and progress reports on implementation of the ALWTRP may also be obtained by writing Gregg LaMontagne, NMFS/Northeast Region at the address above.

Several of the background documents for the ALWTRP and the take reduction planning process can be downloaded from the ALWTRP web site at http://www.nero.nmfs.gov/whaletrp/. Copies of the most recent marine mammal stock assessment reports may be obtained by writing to Richard Merrick, NMFS, 166 Water St., Woods Hole, MA 02543, or can be downloaded from the Internet at http://www.nero.nmfs.gov/whaletrp/.

FOR FURTHER INFORMATION CONTACT: Gregg LaMontagne, NMFS, Northeast Region, 978-281-9291; or Patricia Lawson, NMFS, Office of Protected Resources, 301-713-2322.

SUPPLEMENTARY INFORMATION: The ALWTRP was developed pursuant to section 118 of the Marine Mammal Protection Act (MMPA) to reduce the incidental mortality and serious injury of four species of whales (northern right, fin, humpback and minke) due to incidental interaction with commercial fishing activities. The ALWTRP, implemented through regulations codified at 50 CFR 229.32, relies on a combination of fishing gear modifications and time/area closures to reduce the risk of these whales becoming entangled in commercial fishing gear (and potentially suffering serious injury or mortality as a result).

In addition, the regulations provide authority for contingency measures for addressing unusual or unexpected aggregations of right whales, or providing protection for such groups of animals during times or in areas not addressed by the requirements specified elsewhere in § 229.32. Section 229.32(g)(2) allows the AA to revise the ALWTRP requirements through a publication in the Federal Register if, among other things, NMFS determines that right whales are remaining longer than expected in a closed area or have left earlier than expected, NMFS determines that the boundaries of a closed area are not appropriate, or similar situations occur.

On April 30, 2001, NMFS received a verified report of 13 northern right whales, including 4 cow-calf pairs, in the proximity of 42° 16′N. lat. and 69° 28′W. long. On May 2, 2001, NMFS received a verified sighting of six northern right whales, including two cow-calf pairs, in the proximity of 42° 12′N. lat. and 69° 30′W. long. These positions lie northeast of Cape Cod in an area called Wilkinson Basin.

The AA, through this action, restricts lobster and gillnet gear set in the waters bounded by: 42° 30′ N. lat. 69° 15′ W. long. (NE corner); 42° 05′ N. lat. 69° 15′ W. long. (SE corner); 42° 30′ N. lat. 69° 40′ W. long. (NW corner); and 42° 05′ N. lat. 69° 40′W. long. (SW corner), as follows: (1) All gillnet gear must be removed from these waters within 48 hours of filing of this document in the Federal Register, and no new gear may be set in this area; (2) for all lobster trap gear set within this area at least 50 percent of the vertical lines in the water must be removed within 48 hours of filing of this document in the Federal Register, and no new gear may be set in this area. The restrictions will remain in effect through May 30, 2001, unless terminated sooner or extended by the AA, through another notification in the Federal Register. This restriction will be announced to state officials and fishermen through e-mail, phone contact, NOAA website, and other media immediately upon filing with the Federal Register.

In addition, the AA requests voluntary compliance from gillnet and lobster fishermen, with the same restrictions as mentioned here, for the precautionary area, which surrounds the restricted area, in the waters bounded by: 42° 36′ N. lat., 69° 10′W. long. (NE corner); 41° 55′ N. lat., 69° 10′ W. long. (SE corner); 42° 36′N. lat., 69° 45′ W. long. (NW corner); and 41° 55′N. lat., 69° 45′W. long. (SW corner). Voluntary compliance with the measures in this precautionary area is urged for the same time period as the restricted area defined above.

Authority

This action is authorized by section 118 of the Marine Mammal Protection Act and regulations at 50 CFR 229.32(g)(2).

Dated: May 10, 2001.
William T. Hogarth,
Acting Assistant Administrator for Fisheries, National Marine Fisheries Service.

[FR Doc. 01-12326 Filed 5-11-01; 1:07 pm]

BILLING CODE 3510-22-S